DEPARTMENT OF HEALTH AND HUMAN SERVICES

Administration for Children and Families

Proposed Information Collection Activity; Comment Request

Proposed Projects

Title: Office of Refugee Resettlement—Authorization for Release of Information (R-317).

OMB No.: OMB 0970-0278.

Description: The 2002 Homeland Security Act (Pub. L. 107-296) charged the Administration for Children and Families (ACF), Office of Refugee Resettlement (ORR) with the care and placement of unaccompanied alien children (UAC) in Federal custody. The 2002 Homeland Security Act also charged ORR with the development and implementation of a policy that permits suitable sponsors to request that ORR release these children to the sponsors while the children await immigration proceedings.

Before ORR can decide whether the children may be released, the potential sponsors must meet certain conditions pursuant to Section 462 of the Homeland Security Act and the Flores v. Reno settlement agreement, No. CV85-4544-RJK (C.D. Cal 1997). When ORR assesses the suitability of sponsors, it considers the sponsors' ability and willingness to provide for the physical, mental and financial well-being of an unaccompanied alien child. Also, ORR considers the sponsors' assurances that they will ensure the children's appearance before the immigration courts. To ensure the safety of the children, sponsors must undergo a background check. In this Notice, ACF announces that it proposes to revise the Office of Refugee Resettlement Authorization for Release of Information (R-317), a currently employed information collection instrument, to improve the efficacy of its background check procedures.

Respondents: Potential sponsors of unaccompanied alien children referred by the Department of Homeland Security to ORR for care and placement by reason of their immigration status.

Annual Burden Estimates
Instrument | Number of respondents | Number of responses per respondent | Average burden hours per response | Total burden hours
Authorization for Release of Information | 3,000 | 13 | .05 | 1,950
Estimated Total Annual Burden Hours |  |  |  | 1,950

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 23, 2006.
Robert Sargis,
Reports Clearance Officer.

[FR Doc. 06-865 Filed 1-30-06; 8:45 am]

BILLING CODE 4184-01-M